DEPARTMENT OF ENERGY

Federal Energy Regulatory Commission

Combined Notice of Filings

November 2, 2009.

Take notice that the Commission has received the following Natural Gas Pipeline Rate and Refund Report filings:

Docket Numbers: RP10-75-000.

Applicants: Natural Gas Pipeline Company of America LLC.

Description: Natural Gas Pipeline Company of America LLC submits the Transportation Rate Schedule FTS Agreement with a negotiated rate exhibit between Natural and Eagle Energy Partner I, LP.

Filed Date: 10/26/2009.

Accession Number: 20091026-0283.

Comment Date: 5 p.m. Eastern Time on Monday, November 9, 2009.

Docket Numbers: RP10-80-000.

Applicants: Northwest Pipeline GP.

Description: Northwest Pipeline GP submits Fourth Revised Sheet 395 et al. to FERC Gas Tariff, Fourth Revised Volume 1.

Filed Date: 10/28/2009.

Accession Number: 20091029-0053.

Comment Date: 5 p.m. Eastern Time on Monday, November 9, 2009.

Docket Numbers: RP10-81-000.

Applicants: Texas Eastern Transmission LP.

Description: Texas Eastern Transmission, LP submits Thirty Second Revised Sheet 25 et al. to FERC Gas Tariff, Seventh Revised Volume 1.

Filed Date: 10/28/2009.

Accession Number: 20091029-0054.

Comment Date: 5 p.m. Eastern Time on Monday, November 9, 2009.

Docket Numbers: RP10-82-000.

Applicants: Dauphin Island Gathering Partners.

Description: Dauphin Island Gathering Partners submits Forty-Ninth Revised Sheet No. 9 et al. to FERC Gas Tariff, First Revised Volume No. 1.

Filed Date: 10/29/2009.

Accession Number: 20091030-0011.

Comment Date: 5 p.m. Eastern Time on Tuesday, November 10, 2009.

Docket Numbers: RP10-83-000.

Applicants: Dauphin Island Gathering Partners.

Description: Dauphin Island Gathering Partners submits First Revised Sheet No. 69 et al. to FERC Gas Tariff, First Revised Volume No. 1.

Filed Date: 10/29/2009.

Accession Number: 20091030-0010.

Comment Date: 5 p.m. Eastern Time on Tuesday, November 10, 2009.

Docket Numbers: RP10-84-000.

Applicants: Sequent Energy Management, L.P., Integrys Energy Services, Inc.

Description: Sequent Energy Management, L.P, et al. Request for Temporary Waiver, Shortened Comment Period and Expedited Decision.

Filed Date: 10/29/2009.

Accession Number: 20091029-5092.

Comment Date: 5 p.m. Eastern Time on Tuesday, November 10, 2009.

Docket Numbers: RP10-85-000.

Applicants: Northwest Pipeline GP.

Description: Northwest Pipeline GP submits First Revised Sheet No. 217 et al. to FERC Gas Tariff, Fourth Revised Volume No. 1.

Filed Date: 10/29/2009.

Accession Number: 20091030-0105.

Comment Date: 5 p.m. Eastern Time on Tuesday, November 10, 2009.

Docket Numbers: RP10-86-000.

Applicants: Maritimes & Northeast Pipeline, L.L.C.

Description: Maritimes & Northeast Pipeline, LLC submits Original Sheet No. 9P et al. to FERC Gas Tariff, First Revised Volume No. 1.

Filed Date: 10/29/2009.

Accession Number: 20091030-0104.

Comment Date: 5 p.m. Eastern Time on Tuesday, November 10, 2009.

Docket Numbers: RP10-87-000.

Applicants: Destin Pipeline Company, L.L.C.

Description: Destin Pipeline Co, LLC submits the Revenue Crediting Provision for Twelve Months ended 8/31/09.

Filed Date: 10/30/2009.

Accession Number: 20091030-0147.

Comment Date: 5 p.m. Eastern Time on Thursday, November 12, 2009.

Docket Numbers: RP10-88-000.

Applicants: Quest Pipelines (KPC).

Description: Quest Pipelines (KPC) submits First Revised Sheet No. 62 et al. to FERC Gas Tariff, Second Revised Volume No. 1.

Filed Date: 10/30/2009.

Accession Number: 20091030-0146.

Comment Date: 5 p.m. Eastern Time on Thursday, November 12, 2009.

Docket Numbers: RP10-89-000.

Applicants: Iroquois Gas Transmission System, L.P.

Description: Iroquois Gas Transmission System, LP submits First Revised Sheet No. 6A et al. to FERC Gas Tariff, First Revised Volume No. 1, to be effective 11/1/09.

Filed Date: 10/30/2009.

Accession Number: 20091030-0145.

Comment Date: 5 p.m. Eastern Time on Thursday, November 12, 2009.

Docket Numbers: RP10-90-000.

Applicants: Midwestern Gas Transmission Company.

Description: Midwestern Gas Transmission Company submits Fifth Revised Sheet No. 273 to FERC Gas Tariff, Third Revised Volume No. 1, to be effective 12/1/09.

Filed Date: 10/30/2009.

Accession Number: 20091030-0144.

Comment Date: 5 p.m. Eastern Time on Thursday, November 12, 2009.

Docket Numbers: RP10-91-000.

Applicants: Colorado Interstate Gas Company.

Description: Request of Waiver of non-critical penalties for services related to its new Totem Gas Storage Field facilities of Colorado Interstate Gas Company.

Filed Date: 10/30/2009.

Accession Number: 20091030-5024.

Comment Date: 5 p.m. Eastern Time on Thursday, November 12, 2009.

Docket Numbers: RP10-92-000.

Applicants: El Paso Natural Gas Company.

Description: Request for Waiver of non-critical penalties at certain delivery locations. This request results from the in-service of two new taps on the East Valley Lateral pipeline of El Paso Natural Gas Company.

Filed Date: 10/29/2009.

Accession Number: 20091029-5095.

Comment Date: 5 p.m. Eastern Time on Tuesday, November 10, 2009.

Docket Numbers: RP10-93-000.

Applicants: Viking Gas Transmission Company.

Description: Viking Gas Transmission Company submits Seventh Revised Sheet No. 871 and amendments to three non-conforming transportation service agreements, to be effective 12/1/09.

Filed Date: 10/30/2009.

Accession Number: 20091030-0143.

Comment Date: 5 p.m. Eastern Time on Thursday, November 12, 2009.

Docket Numbers: RP10-94-000.

Applicants: Trunkline Gas Company, LLC.

Description: Trunkline Gas Company, LLC submits the Annual Interruptible Storage Revenue Credit Surcharge Adjustment for the period September 2008 through August 2009.

Filed Date: 10/30/2009.

Accession Number: 20091030-0142.

Comment Date: 5 p.m. Eastern Time on Thursday, November 12, 2009.

Docket Numbers: RP10-95-000.

Applicants: Viking Gas Transmission Company.

Description: Viking Gas Transmission Company submits two new backhaul service agreements under Rate Schedule FT-A, to be effective 12/1/09.

Filed Date: 10/30/2009.

Accession Number: 20091030-0141.

Comment Date: 5 p.m. Eastern Time on Thursday, November 12, 2009.

Docket Numbers: RP10-96-000.

Applicants: Equitrans, L.P.

Description: Equitrans L.P. submits Sixth Revised Sheet No. 317 to FERC Gas Tariff, Original Volume No. 1, to be effective 11/1/09.

Filed Date: 10/30/2009.

Accession Number: 20091030-0140.

Comment Date: 5 p.m. Eastern Time on Thursday, November 12, 2009.

Docket Numbers: RP10-97-000.

Applicants: Northern Natural Gas Company.

Description: Northern Natural Gas Company submits Fifth Revised Sheet No. 0 et al. to FERC Gas Tariff, Second Revised Volume No. 1, to be effective 11/1/09.

Filed Date: 10/30/2009.

Accession Number: 20091030-0139.

Comment Date: 5 p.m. Eastern Time on Thursday, November 12, 2009.

Docket Numbers: RP10-98-000.

Applicants: Gas Transmission Northwest Corporation.

Description: Gas Transmission Northwest Corporation submits Forty-Seventh Revised Sheet No. 15 et al. to FERC Gas Tariff, Third Revised Volume No. 1, to be effective 11/1/09.

Filed Date: 10/30/2009.

Accession Number: 20091030-0138.

Comment Date: 5 p.m. Eastern Time on Thursday, November 12, 2009.

Docket Numbers: RP10-99-000.

Applicants: National Fuel Gas Supply Corporation.

Description: National Fuel Gas Supply Corporation submits 131st Revised Sheet No. 9 to FERC Gas Tariff, Fourth Revised Volume No. 1, to be effective 11/1/09.

Filed Date: 10/30/2009.

Accession Number: 20091030-0137.

Comment Date: 5 p.m. Eastern Time on Thursday, November 12, 2009.

Docket Numbers: RP10-100-000.

Applicants: Great Lakes Gas Transmission Limited Partnership.

Description: Great Lakes Gas Transmission Limited Partnership submits Fifth Revised Sheet No. 0 et al. to FERC Gas Tariff, Second Revised Volume No. 1, to be effective 11/30/09.

Filed Date: 10/30/2009.

Accession Number: 20091030-0136.

Comment Date: 5 p.m. Eastern Time on Thursday, November 12, 2009.

Docket Numbers: RP10-101-000.

Applicants: Transcontinental Gas Pipe Line Company, LLC.

Description: Transcontinental Gas Pipe Line Company, LLC submits Twenty-First Revised Sheet No. 470 to FERC Gas Tariff, Fourth Revised Volume No. 1.

Filed Date: 10/30/2009.

Accession Number: 20091030-0135.

Comment Date: 5 p.m. Eastern Time on Thursday, November 12, 2009.

Docket Numbers: RP10-102-000.

Applicants: Colorado Interstate Gas Company.

Description: Colorado Interstate Gas Company submits Twelfth Revised Sheet No. 8A et al. to FERC Gas Tariff, First Revised Volume No. 2, to be effective 11/1/09.

Filed Date: 10/30/2009.

Accession Number: 20091030-0134.

Comment Date: 5 p.m. Eastern Time on Thursday, November 12, 2009.

Docket Numbers: RP10-103-000.

Applicants: Wyoming Interstate Company, Ltd.

Description: Wyoming Interstate Company Ltd submits Twenty-Fifth Revised Sheet No 4C et al. to its FERC Gas Tariff, Second Revised Volume No. 2.

Filed Date: 10/30/2009.

Accession Number: 20091030-0132.

Comment Date: 5 p.m. Eastern Time on Thursday, November 12, 2009.

Docket Numbers: RP10-104-000.

Applicants: Wyoming Interstate Company, Ltd.

Description: Wyoming Interstate Company Ltd submits Fourth Revised Sheet No 39C et al. to its FERC Gas Tariff, Second Revised Volume No. 2.

Filed Date: 10/30/2009.

Accession Number: 20091030-0131.

Comment Date: 5 p.m. Eastern Time on Thursday, November 12, 2009.

Docket Numbers: RP10-105-000.

Applicants: Southern LNG Inc.

Description: Southern LNG Inc submits Twenty-Fifth Revised Sheet No 5 et al. to its FERC Gas Tariff, Original Volume No 1.

Filed Date: 10/30/2009.

Accession Number: 20091030-0130.

Comment Date: 5 p.m. Eastern Time on Thursday, November 12, 2009.

Docket Numbers: RP10-106-000.

Applicants: Columbia Gas Transmission, LLC.

Description: Columbia Gas Transmission, LLC submits First Revised Sheet no 140 et al. to its FERC Gas Tariff, Third Revised Volume No 1.

Filed Date: 10/30/2009.

Accession Number: 20091030-0128.

Comment Date: 5 p.m. Eastern Time on Thursday, November 12, 2009.

Docket Numbers: RP10-107-000.

Applicants: Midcontinent Express Pipeline LLC.

Description: Midcontinent Express Pipeline LLC submits First Revised Sheet No 12 to it FERC Gas Tariff, Original Volume No 1.

Filed Date: 10/30/2009.

Accession Number: 20091030-0148.

Comment Date: 5 p.m. Eastern Time on Thursday, November 12, 2009.

Docket Numbers: RP10-108-000.

Applicants: Columbia Gas Transmission, LLC.

Description: Columbia Gulf Transmission, LLC submits petition for waiver of the Delivery Point Scheduling Penalty.

Filed Date: 10/30/2009.

Accession Number: 20091030-0127.

Comment Date: 5 p.m. Eastern Time on Thursday, November 12, 2009.

Docket Numbers: RP10-109-000.

Applicants: Columbia Gulf Transmission Company.

Description: Columbia Gulf Transmission Company submits petition for waiver of the Delivery Point Scheduling Penalty.

Filed Date: 10/30/2009.

Accession Number: 20091030-0126.

Comment Date: 5 p.m. Eastern Time on Thursday, November 12, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-27301 Filed 11-10-09; 8:45 am]

BILLING CODE 6717-01-P